DEPARTMENT OF HOMELAND SECURITY

U.S. Customs and Border Protection

[1651-0109]

Agency Information Collection Activities: Guam-CNMI Visa Waiver Information

AGENCY: U.S. Customs and Border Protection (CBP), Department of Homeland Security.

ACTION: 60-Day notice and request for comments; revision and extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies. Comments are encouraged and will be accepted (no later than August 13, 2018) to be assured of consideration.

ADDRESSES: Written comments and/or suggestions regarding the item(s) contained in this notice must include the OMB Control Number 1651-0109 in the subject line and the agency name. To avoid duplicate submissions, please use only one of the following methods to submit comments:

(1) Email. Submit comments to: CBP_PRA@cbp.dhs.gov.

(2) Mail. Submit written comments to CBP Paperwork Reduction Act Officer, U.S. Customs and Border Protection, Office of Trade, Regulations and Rulings, Economic Impact Analysis Branch, 90 K Street NE, 10th Floor, Washington, DC 20229-1177.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number (202) 325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Guam-CNMI Visa Waiver Information.

OMB Number: 1651-0109.

Form Number: CBP Form I-736.

Type of Review: Revision and Extension (with change).

Action: CBP proposes to revise and extend the expiration date of this information collection with an increase to the burden hours due to the proposed changes to the information collected.

Proposed Changes (Items in italics were previously approved under this information collection):

1. Surname/Family Name (exactly as in passport).

2. (Given) Name and Middle Name.

3. Are you known by any other names or aliases? (y/n) If yes:

Alias Surname/Family Name.

Alias First (Given) Name.

4. Date of Birth (mm/dd/yyyy).

5. City of Birth.

6. Country of Birth.

7. Gender.

8. Country of Citizenship.

9. What is your National Identification Number?

10. Passport Number.

—Issuing Country

—Passport Issuing Date, (mm/dd/yyyy)

—Passport Expire Date, (mm/dd/yyyy)

11. Have you ever been a citizen or national of any other country? (Y/N) If yes:

—provide the Country of Citizenship/Nationality.

12. Have you ever been issued a passport or national identity card for travel by any other country? (Y/N) If yes;

—provide Issuing Country, Document Type, Document Number, and Expiration Date (mm/dd/yyyy)

13. Are you now a citizen or national of any other country? (Y/N) If yes, then

—provide the Country of Citizenship/Nationality

14. How did you acquire citizenship/nationality from this country?

15. Have you applied for an immigrant or nonimmigrant U.S. visa before? If yes, then:

—Place you applied

—Date you applied (mm/dd/yyyy)

—Type of visa Requested

—Was visa Issued? (Y/N) If no, then: was application withdrawn or denied (Y/N). If yes, then

has your Visa ever been cancelled?

(Y/N).

16. Are you a member of the CBP Global Entry Program? (Y/N) If yes, provide the PASSID/Membership Number.

17. Are you under the age of fourteen (14)? (Y/N) If yes:

—Father First (Given) Name

—Father Surname/Family Name

—Mother First (Given) Name

—Mother Surname/Family Name

18. PERSONAL CONTACT INFORMATION.

—Email

—Country Code and Phone Number

—Home Address

—City

—State/Province/Region

—Country

19. ADDRESS WHILE IN Guam/CNMI.

—Address

—City

—Guam or CNMI

—Phone Number

20. EMERGENCY CONTACT INFORMATION IN OR OUT OF THE United States.

—Surname/Family Name

—First (Given) Name

—Email Address

—Country Code

—Phone

—Country Name

21. Do you have a physical or mental disorder; or are you a drug abuser or addict; or do you currently have any of the following diseases? Communicable diseases are specified pursuant to section 361(b) of the Public Health Service Act: Cholera, Diphtheria, Tuberculosis infectious, Plague, Smallpox, Yellow Fever, Viral Hemorrhagic Fevers, including Ebola, Lassa, Marburg, Crimean-Congo, Severe acute respiratory illnesses capable of transmission to other persons and likely to cause mortality. (Y/N)

22. Have you ever been arrested or convicted for a crime that resulted in serious damage to property, or serious harm to another person or government authority? (Y/N)

23. Have you ever violated any law related to possessing, using, or distributing illegal drugs? (Y/N)

24. Do you seek to engage in or have you ever engaged in terrorist activities, espionage, sabotage, or genocide? (Y/N)

25. Have you ever committed fraud or misrepresented yourself or others to obtain, or assist others to obtain, a visa or entry into the United States? (Y/N)

26. Have you ever stayed in the United States longer than the admission period granted to you by the U.S. government? (Y/N)

27. Are you currently seeking employment in Guam or CNMI? (Y/N)

28. Were you previously employed in the United States without prior permission from the U.S. government? (Y/N)

29. Have you traveled to, or been present in Iraq, Syria, Iran, Sudan, Libya, Somalia, or Yemen on or after March 1, 2011? (Y/N)

Affected Public: Individuals.

Abstract: Public Law 110-229 provides for certain aliens to be exempt from the nonimmigrant visa requirement if seeking entry into Guam or the Commonwealth of the Northern Mariana Islands (CNMI) as a visitor for a maximum stay of 45 days, provided that no potential threat exists to the welfare, safety, or security of the United States or its territories, and other criteria are met. Upon arrival at a Guam or CNMI Port-of-Entry, each applicant for admission presents a completed I-736 to CBP. CBP Form I-736 is provided for by 8 CFR 212.1(q) and is accessible at: http://www.cbp.gov/newsroom/publications/forms?title=736&=Apply or https://i736.cbp.dhs.gov/I736/#/home.

Estimated Number of Respondents: 1,560,000.

Estimated Time per Respondent: 19 minutes.

Estimated Total Annual Burden Hours: 492,960.

Dated: June 7, 2018.
Seth D. Renkema,
Branch Chief, Economic Impact Analysis Branch, U.S. Customs and Border Protection.

[FR Doc. 2018-12586 Filed 6-11-18; 8:45 am]

BILLING CODE 9111-14-P